DEPARTMENT OF COMMERCE

Bureau of Industry and Security

Action Affecting Export Privileges; Cirrus Electronics LLC et al.

In the Matter of: Cirrus Electronics LLC, 201 Huddersville Drive, Simpsonville, South Carolina 29681-3703; and 22 Redglobe Court, Simpsonville, South Carolina 29681-3615; Cirrus Electronics Pte Ltd., Level 3, ECON Building, No. 2, Ang Mo Kio Street 64, Ang Mo Kio Industrial Park 3, Singapore; Cirrus Electronics Marketing (P) Ltd., #303 Suraj Ganga Arcade, 332/7, 15th Cross 2nd Block, Jayanagar, Bangalore, India; Parthasarathy Sudarshan, Managing Director, CEO, President, and Group Head of Cirrus, 201 Huddersville Drive, Simpsonsville, South Carolina 29681-3703; and 22 Redglobe Court, Simpsonville, South Carolina 29681-3615; Mythili Gopal, International Manager of Cirrus, 201 Huddersville Drive, Simpsonville, South Carolina 29681-3703; and 22 Redglobe Court, Simpsonville, South Carolina 29681-3615; Akn Prasad, CEO of India Operations of Cirrus, #303 Suraj Ganga Arcade, 332/7, 15th Cross 2nd Block, Jayanagar, Bangalore, India; Sampath Sundar, Director of Operations of Cirrus, Cirrus Electronics Pte Ltd., Level 3, ECON Building, No. 2, Ang Mo Kio Street 64, Ang Mo Kio Industrial Park 3, Singapore, Respondents.

Order Temporarily Denying Export Privileges

Pursuant to Section 766.24 of the Export Administration Regulations (“EAR”),¹ the Bureau of Industry and Security (“BIS”), U.S. Department of Commerce, through its Office of Export Enforcement (“OEE”), has requested that I issue an Order temporarily denying the export privileges under the EAR of:

¹ The EAR are currently codified at 15 CFR Parts 730-774 (2007). The EAR are issued under the Export Administration Act of 1979, as amended (50 U.S.C. app. 2401-2420 (2000)) (“EAA”). Since August 21, 2001, the EAA has been in lapse and the President, through Executive Order 13222 of August 17, 2001 (3 CFR, 2001 Comp. 783 (2002)), as extended by the Notice of August 3, 2006 (71 FR 44551 (August 7, 2006)), has continued the Regulations in effect under the International Emergency Economic Powers Act (50 U.S.C. 1701-1706 (2000)) (“IEEPA”).

(1) Cirrus Electronics, doing business as Cirrus Electronics LLC, 201 Huddersville Drive, Simpsonville, South Carolina 29681-3703 and 22 Redglobe Court, Simpsonville, South Carolina 29681-3615 (“Cirrus U.S.A.”).

(2) Cirrus Electronics Pte Ltd., Level 3, ECON Building, No. 2, Ang Mo Kio Street 64, Ang Mo Kio Industrial Park 3, Singapore (“Cirrus Singapore”).

(3) Cirrus Electronics Marketing (P) Ltd., #303 Suraj Ganga Arcade, 332/7, 15th Cross 2nd Block, Jayanagar, Bangalore, India (“Cirrus India”).

(4) Parthasarathy Sudarshan, Managing Director, CEO, President, and Group Head of Cirrus, 201 Huddersville Drive, Simpsonville, South Carolina 29681-3703 and 22 Redglobe Court, Simpsonville, South Carolina 29681-3615.

(5) Mythili Gopal, International Manager of Cirrus, 201 Huddersville Drive, Simpsonville, South Carolina 29681-3703 and 22 Redglobe Court, Simpsonville, South Carolina 29681-3615.

(6) Akn Prasad, CEO of India Operations of Cirrus, #303 Suraj Ganga Arcade, 332/7, 15th Cross 2nd Block, Jayanagar, Bangalore, India.

(7) Sampath Sundar, Director of Operations of Cirrus, Cirrus Electronics Pte Ltd., Level 3, ECON Building, No. 2, Ang Mo Kio Street 64, Ang Mo Kio Industrial Park 3, Singapore.

(hereinafter collectively referred to as the “Respondents”) for 180 days.

In its request, BIS has presented evidence that shows that the Respondents knowingly engaged in conduct prohibited by the EAR and took actions to evade the EAR by shipping items through Singapore and concealing the true identity of the end-users. The Respondents participated in the export of items subject to the EAR to two end-users on the Entity List set forth in Supp. 4 to Part 744 of the EAR without the export licenses required by Section 744.1 of the EAR.

Specifically, the evidence shows that on at least five occasions between on or about September 30, 2005 and on or about April 17, 2006, the Respondents exported items subject to the EAR from the United States to the Vikram Sarabhai Space Centre (“VSSC”) and Bharat Dynamics Ltd. (“BDL”) in India without the license required by Section 744.1 of the EAR. VSSC and BDL are organizations set forth on the Entity List set forth in Supplement No. 4 to Part 744 of the EAR. On two occasions on or about March 24, 2006 and on or about April 17, 2006, the Respondents exported Static Random Access Memory computer chips, items subject to the EAR and classified under Export Control Classification Number 3A001.a.2.c., to VSSC. These items are controlled for national security reasons and required a license for export to Singapore, India, and VSSC. On three occasions on or about September 30, 2005, November 5, 2005, and January 14, 2006, the Respondents exported semiconductors and capacitors, items subject to the EAR (“EAR99”) to BDL. These items have applications in missile guidance and firing systems and required a license for export to BDL. In each instance, the items were shipped from the United States to Singapore for subsequent shipment to VSSC and BDL. The Respondents were aware of the Entity List licensing requirements and on at least one occasion provided an end-user statement to a U.S. vendor that falsely represented the end-user in order to conceal the intended actual end user, VSSC, of the vendor's items.

I find that the evidence presented by BIS demonstrates that the Respondents have knowingly violated the EAR, that such violations have been deliberate and covert, and that there is a likelihood of future violations, particularly given the nature of the transactions. As such, a Temporary Denial Order (“TDO”) is needed to give notice to persons and companies in the United States and abroad that they should cease dealing with the Respondents in export transactions involving items subject to the EAR. Such a TDO is consistent with the public interest to preclude future violations of the EAR.

Accordingly, I find that a TDO naming Cirrus USA, its two offices in Singapore and India, Cirrus Singapore and Cirrus India, respectively, and its four officers, Parthasarathy Sudarshan, Mythili Gopal, Akn Prasad, and Sampath Sundar, as Respondents is necessary, in the public interest, to prevent an imminent violation of the EAR. This Order is issued on an ex parte basis without a hearing based upon BIS's showing of an imminent violation.

It is therefore ordered:

First, that the Respondents, CIRRUS ELECTRONICS LLC, 201 Huddersville Drive, Simpsonville, South Carolina, 29681-3703 and 22 Redglobe Court, Simpsonville, South Carolina, 29681-3615, and Cirrus Electronics Pte Ltd., Level 3, ECON Building, No. 2, Ang Mo Kio Street 64, Ang Mo Kio Industrial Park 3, Singapore, and Cirrus Electronics Marketing (P) Ltd., #303 Suraj Ganga Arcade, 332/7, 15th Cross 2nd Block, Jayanagar, Banglalore, India, and Parthsarsathy Sudarshan, Managing Director, CEO, President, and Group Head of Cirrus, 201 Huddersville Drive, Simpsonville, South Carolina, 29681-3703, and 22 Redglobe Court, Simpsonville, South Carolina, 29681-3615, and Mythili Gopal, International Manager of Cirrus, 201 Huddersville Drive, Simpsonville, South Carolina, 29681-3703 and 22 Redglobe Court, Simpsonville, South Carolina, 29681-3615, and Akn Prasad, CEO of India Operations of Cirrus, #303 Suraj Ganga Arcade, 332/7, 15th Cross 2nd Block, Jayanagar, Bangalore, India, and Sampath Sundar, Director of Operations of Cirrus, Cirrus Electronics Pte Ltd., Level 3, ECON Building, No. 2, Ang Mo Kio Street 64, Ang Mo Kio Industrial Park 3, Singapore (collectively the “Denied Persons”), may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item expected or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Persons of the ownership, possession, or control of any item subject to the EAR that has been or will be exported from the United States, including financing or other support activities related to a transaction whereby the Denied Persons acquires or attempts to acquire such ownership, possession or control;

C. Take any action to acquire from or to facilitate the acquisition or attempted acquisition from the Denied Persons of any item subject to the EAR that has been exported from the United States;

D. Obtain from the Denied Persons in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that, after notice and opportunity for comment as provided in section 766.23 of the EAR, any other person, firm, corporation, or business organization related to any of the Denied Persons by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request with the Assistant Secretary not later than 20 days before the expiration date and serving the request on the Respondents. The Respondents may oppose a request to renew this Order by filing a written submission with the Assistant Secretary of Commerce for Export Enforcement, which must be received not later than seven days before the expiration date of the Order.

A copy of this Order shall be served on the Respondents and shall be published in the Federal Register.

This Order is effective upon date of publication in the Federal Register and shall remain in effect for 180 days.

Entered this 1st day of June, 2007.
Darryl W. Jackson,
Assistant Secretary of Commerce for Export Enforcement.

[FR Doc. 07-2899 Filed 6-11-07; 8:45 am]

BILLING CODE 3510-DT-M